ENVIRONMENTAL PROTECTION AGENCY

40 CFR Part 52

[Docket No. EPA-R02-OAR-2013-0592; FRL-9900-59-Region2]

Adequacy Status of the Submitted 2009, 2017 and 2025 PM2.5 Motor Vehicle Emission Budgets for Transportation Conformity Purposes for New York

AGENCY: Environmental Protection Agency (EPA).

ACTION: Notice of adequacy.

SUMMARY: In this action, EPA is notifying the public that we have found the motor vehicle emissions budgets for PM2.5 and NOX in the submitted maintenance plan for the New York portions of the New York-Northern New Jersey-Long Island, NY-NJ-CT PM2.5 nonattainment areas to be adequate for transportation conformity purposes. The transportation conformity rule requires that the EPA conduct a public process and make an affirmative decision on the adequacy of budgets before they can be used by metropolitan planning organizations (MPOs) in conformity determinations. As a result of our finding, the new 2009, 2017 and 2025 PM2.5 budgets are applicable to nine of the ten counties in the New York Metropolitan Transportation Council planning area (excluding Putnam County) and Orange County in the Orange County Transportation Council planning area and must be used for all future transportation conformity determinations.

DATES: This finding is effective September 18, 2013.

FOR FURTHER INFORMATION CONTACT: Melanie Zeman, Air Programs Branch, Environmental Protection Agency—Region 2, 290 Broadway, 25th Floor, New York, New York 10007-1866, (212) 637-4022, zeman.melanie@epa.gov.

The finding and the response to comments will be available at EPA's conformity Web site: http://www.epa.gov/otaq/stateresources/transconf/adequacy.htm.

SUPPLEMENTARY INFORMATION:

Background

On June 27, 2013, New York State submitted a redesignation request and maintenance plan to EPA for the New York portion of the New York-Northern New Jersey-Long Island, NY-NJ-CT PM2.5 nonattainment areas. The purpose of New York's submittal was to request a redesignation to attainment for both the 1997 and 2006 PM2.5 National Ambient Air Quality Standards (NAAQS) and submit a state implementation plan to provide for maintenance of the standard for the first ten years of a 20-year maintenance period. New York's request was pursuant to EPA's findings that that the New York area had attained the 1997 (75 FR 69589) and 2006 (77 FR 76867) PM2.5 NAAQS based on ambient air quality monitoring data. New York's submittal included motor vehicle emissions budgets (“budgets”) for 2009, 2017 and 2025 for use by the State's metropolitan planning organizations in making transportation conformity determinations. On July 15, 2013, EPA posted the availability of the budgets on our Web site for the purpose of soliciting public comments. The comment period closed on August 14, 2013, and we received no comments.

New York State developed these budgets for the 1997 annual PM2.5 NAAQS and the 2006 24-hour PM2.5 NAAQS based on EPA's MOVES model. These budgets are for 2025, the last year of the maintenance plan as required, and two additional years, 2009 and 2017, for the purpose of establishing budgets for the near-term. New York also determined that budgets based on annual emissions of direct PM2.5 and NOX, a precursor, are appropriate for the 2006 24-hour standard because exceedences of the standard were not isolated to one particular season; therefore, the budgets being found adequate today will be used by transportation agencies to meet conformity requirements for both the annual and 24-hour standards.

The 2009 budgets were developed without an accompanying full emissions inventory. However, EPA believes that the 2009 budgets still meet all of the adequacy criteria, as described below. The 2009 budgets are consistent with attainment and maintenance of both the 1997 and 2006 PM2.5 standards because of our earlier determinations that the New York portion of the New York-Northern New Jersey-Long Island, NY-NJ-CT PM2.5 nonattainment area had attained the standards based on monitored air quality that included the year 2009.

Adequacy Process

Transportation conformity is required by section 176(c) of the Clean Air Act. EPA's conformity rule requires that transportation plans, programs, and projects conform to SIPs and establishes the criteria and procedures for determining whether or not they conform. Conformity to a SIP means that transportation activities will not produce new air quality violations, worsen existing violations, or delay timely attainment of the National Ambient Air Quality Standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in 40 CFR 93.118(f). We have followed this rule in making our adequacy determination. The motor vehicle emissions budgets being found adequate today are listed in Table 1 and include direct PM2.5 and its precursor, NOX. EPA's finding will also be announced on EPA's conformity Web site: http://www.epa.gov/otaq/stateresources/transconf/adequacy.htm.

EPA Review

EPA's adequacy review of New York's submitted budgets indicates that the budgets meet the adequacy criteria set forth by 40 CFR 93.118(e)(4), as follows:

(i) The submitted control strategy implementation plan revision or maintenance plan was endorsed by the Governor (or his or her designee) and was subject to a State public hearing: The SIP revision was submitted to EPA by the Commissioner of the New York State Department of Environmental Conservation, who is the Governor's designee.

(ii) Before the control strategy implementation plan or maintenance plan was submitted to EPA, consultation among federal, State, and local agencies occurred; full implementation plan documentation was provided to EPA; and EPA's stated concerns, if any, were addressed: New York State conducted an interagency consultation process involving EPA and USDOT, the New York State Department of Transportation and affected MPOs. All comments and concerns were addressed prior to the final submittal.

(iii) The motor vehicle emissions budget(s) is clearly identified and precisely quantified: The budgets were clearly identified and quantified and are presented here in Table 1.

(iv) The motor vehicle emissions budget(s), when considered together with all other emissions sources, is consistent with applicable requirements for maintenance: The 2009, 2017 and 2025 budgets are less than the on-road mobile source inventory for 2007 that was shown to be consistent with attainment of the standards. The applicable state implementation plan demonstrates that the 2017 and 2025 budgets are consistent with maintenance when considered with all other sources for each respective year. The 2009 budgets were developed with all the information for the year 2009, including on-road activity in 2009. Because New York demonstrated attainment in this year to the applicable air quality standards, the 2009 budgets are therefore consistent with maintenance of the respective standards.

(v) The motor vehicle emissions budget(s) is consistent with and clearly related to the emissions inventory and the control measures in the submitted control strategy implementation plan revision or maintenance plan: The budgets were developed from the on-road mobile source inventories, including all applicable state and Federal control measures. Inputs related to inspection and maintenance and fuels are consistent with New York State's Federally-approved control programs.

(vi) Revisions to previously submitted control strategy implementation plans or maintenance plans explain and document any changes to previously submitted budgets and control measures; impacts on point and area source emissions; any changes to established safety margins (see § 93.101 for definition); and reasons for the changes (including the basis for any changes related to emission factors or estimates of vehicle miles traveled): The submitted maintenance plan establishes new 2009, 2017 and 2025 budgets to ensure continued maintenance of the standards; therefore, this is not applicable.

Adequacy Finding

Today's action is simply an announcement of a finding that we have already made. EPA Region 2 sent a letter to New York on August 19, 2013, stating that the 2009, 2017 and 2025 motor vehicle emissions budgets in New York's SIP for the New York PM2.5 nonattainment areas are adequate because they are consistent with the required maintenance demonstration. In our letter we noted that there are existing approved and adequate budgets for 2009, but that the 2009 budgets contained in the submitted maintenance plans will be the most recent budgets in place to satisfy the latest Clean Air Act requirement and therefore will be the applicable 2009 budgets to be used in future transportation conformity determinations for analysis years prior to 2017.

Table 1—PM2.5 Motor Vehicle Emissions Budgets for New York
[Tons per year]
New York Metropolitan Transportation Council & Orange County Transportation Council | Direct PM2.5 | NOX
2009 Motor Vehicle Emissions Budget | 5,516.75 | 106,020.09
2017 Motor Vehicle Emissions Budget | 3,897.71 | 68,362.66
2025 Motor Vehicle Emissions Budget | 3,291.09 | 51,260.81

List of Subjects in 40 CFR Part 52

Environmental protection, Air pollution control, Incorporation by reference, Intergovernmental relations, Nitrogen dioxide, Particulate matter, Reporting and recordkeeping requirements.

Authority: 42 U.S.C. 7401-7671 q.

Dated: August 19, 2013.
Judith A. Enck,
Regional Administrator, Region 2.

[FR Doc. 2013-21266 Filed 8-30-13; 8:45 am]

BILLING CODE 6560-50-P